DEPARTMENT OF TRANSPORTATION

Federal Transit Administration

Notice of Intent To Prepare an Environmental Impact Statement for the West Seattle and Ballard Link Extensions, King County, Washington

AGENCY: Federal Transit Administration (FTA), DOT

ACTION: Notice of intent to prepare an environmental impact statement.

SUMMARY: The Federal Transit Administration (FTA) and the Central Puget Sound Regional Transit Authority (Sound Transit) intend to prepare an Environmental Impact Statement (EIS) to evaluate the benefits and impacts of the proposed West Seattle and Ballard Link Extensions (WSBLE), a light rail transit extension project. The project would improve public transit service along the WSBLE corridor between and through the West Seattle, Downtown, and Ballard neighborhoods in Seattle, King County, Washington. It would respond to a growing number of transportation and community needs identified in the agency's regional transit system plan, Sound Transit 3 (ST3).

FTA and Sound Transit will prepare the EIS in accordance with the National Environmental Policy Act (NEPA), FTA environmental regulations, Fixing America's Surface Transportation Act (FAST Act), and Washington's State Environmental Policy Act (SEPA). This Notice initiates formal scoping for the EIS, provides information on the nature of the proposed transit project, invites participation in the EIS process, provides information about the purpose and need for the proposed transit project, includes the general set of alternatives being considered for evaluation in the EIS, and identifies potential environmental effects to be considered. It also invites comments from interested members of the public, tribes, and agencies on the scope of the EIS and announces upcoming public scoping meetings. Alternatives being considered for evaluation include a No-Build alternative and various build alternatives to develop light rail in the WSBLE corridor. The alternatives were developed through a local planning process including a Regional Transit Long-Range Plan, a regional system plan of transit investments (ST3), and a SEPA early scoping and alternatives development process specific to the WSBLE corridor. Results of the SEPA early scoping process, the alternatives development process and findings, and other background technical reports are available at Sound Transit's office located at 401 S Jackson Street, Seattle, WA 98104-2826, on the project website: www.soundtransit.org/WSBLink, or by contacting the project line at (206) 903-7229.

DATES: The public scoping period will begin on the date of publication of this Notice and will continue through March 18, 2019 or 30 days from the date of publication, whichever is later. Please send written comments on the scope of the EIS, including the draft purpose and need statement, the alternatives to be considered in the EIS, the environmental and community impacts to be evaluated, and any other project-related issues, to the Sound Transit address listed in ADDRESSES below.

Public scoping meetings will be held at the times and locations indicated in ADDRESSES below. Sound Transit and FTA will accept written (via mail and online) and verbal comments recorded by a court reporter at those meetings. FTA and Sound Transit have also scheduled a meeting to receive comments from agencies and tribes who have an interest in the proposed project (on March 5, 2019). Invitations to the agency and tribal scoping meeting have been sent to appropriate Federal, tribal, state, and local governmental units.

ADDRESSES: Written comments on the scope of the EIS must be received by March 18, 2019 or 30 days from the publication of this Notice, whichever is later. Please send comments to: WSBLE (c/o Lauren Swift, Central Corridor Environmental Manager) Sound Transit, 401 S. Jackson Street, Seattle, WA 98104-2826, or by email to WSBscopingcomments@soundtransit.org. Comments will also be accepted at the public scoping meetings which will be held at:

1. February 27, 2019, 6:00-8:30, Alki Masonic Center, 4736 40th Ave. SW, Seattle, WA 98116.

2. February 28, 2019, 6:00-8:30, Ballard High School, 1418 NW 65th St., Seattle, WA 98117.

3. March 7, 2019, 5:00-7:30, Sound Transit, Union Station, 401 S. Jackson Street, Seattle, WA 98104.

All public meeting locations are accessible to persons with disabilities. To request materials be prepared and supplied in alternate formats or languages, please call the project line, (206) 903-7299/TTY Relay 711 at least 48 hours in advance of the meeting. Persons who are deaf or hard of hearing may call (888) 713-4900/TTY Relay 711.

Information about the proposed project, the alternatives development process, scoping, and the EIS process will be available at the scoping meetings, at Sound Transit offices, on the project website: http://www.soundtransit.org/WSBLink, or by contacting the project line at (206) 903-7229.

FOR FURTHER INFORMATION CONTACT: Mark Assam, FTA Environmental Protection Specialist, phone: (206) 220-4465 or Lauren Swift, Sound Transit Central Corridor Environmental Manager, phone: (206) 398-5301.

SUPPLEMENTARY INFORMATION:

Background. NEPA “scoping” (40 CFR 1501.7) has specific and fairly limited objectives, one of which is to identify the light rail alignment alternatives' significant issues that will be examined in detail in the EIS, while simultaneously limiting consideration and development of issues that are not truly significant. The NEPA scoping process should identify potentially significant environmental impacts caused by the project and that give rise to the need to prepare an EIS; impacts that are deemed not to be significant need not be developed extensively in the context of the impact statement. The EIS must be focused on impacts of consequence consistent with the ultimate objectives of the NEPA implementing regulations—“to make the environmental impact statement process more useful to decision makers and the public; and to reduce paperwork and the accumulation of extraneous background data, in order to emphasize the need to focus on real environmental issues and alternatives . . . [by requiring] impact statements to be concise, clear, and to the point, and supported by evidence that agencies have made the necessary environmental analyses.” Executive Order 11991, of May 24, 1977. Transit projects may also generate environmental benefits, which should also be highlighted; the EIS process should draw attention to positive impacts, not just negative.

The Proposed Project. Sound Transit is proposing to expand Link light rail transit service from downtown Seattle to West Seattle's Alaska Junction neighborhood, and to Ballard's Market Street area. The project corridor is approximately 11.8 miles long. The project is part of the ST3 Plan of regional transit system investments, approved for funding by voters in the region in 2016. The ST3 Plan is available on Sound Transit's website at: https://www.soundtransit.org/get-to-know-us/documents-reports/st3-2016-guide.

Purpose of and Need for the Project. The Purpose and Need statement establishes the basis for developing and evaluating a range of reasonable alternatives for environmental review and assists with the identification of a Preferred Alternative. The purpose of the WSBLE project is to expand the Link light rail system from downtown Seattle to West Seattle and Ballard, to make appropriate community investments to improve mobility, and to increase capacity and connectivity for regional connections in order to:

• Provide high quality rapid, reliable, and efficient light rail transit service to communities in the project corridor as defined through the local planning process and reflected in the ST3 Plan (Sound Transit, 2016).

• Improve regional mobility by increasing connectivity and capacity through downtown Seattle to meet projected transit demand.

• Connect regional centers as described in adopted regional and local land use, transportation, and economic development plans and Sound Transit's Regional Transit Long-Range Plan Update (Sound Transit, 2014).

• Implement a system that is technically and financially feasible to build, operate, and maintain.

• Expand mobility for the corridor and region's residents, which include transit-dependent, low-income, and minority populations.

• Encourage equitable and sustainable urban growth in station areas through support of transit-oriented development and multimodal integration in a manner that is consistent with local land use plans and policies, including Sound Transit's Transit Oriented Development and Sustainability policies.

• Encourage convenient and safe non-motorized access to stations such as bicycle and pedestrian connections consistent with Sound Transit's System Access Policy.

• Preserve and promote a healthy environment and economy by minimizing adverse impacts on the natural, built, and social environments through sustainable practices.

The project is needed because:

• When measured using national standards, existing transit routes between downtown Seattle, West Seattle and Ballard currently operate with poor reliability. Roadway congestion in the project corridor will continue to degrade transit performance and reliability as the city is expected to add 70,000 residential units and 115,000 jobs by 2035, without any major expansions in roadways.

• Increased ridership from regional population and employment growth will increase operational frequency in the existing downtown Seattle transit tunnel requiring additional tunnel capacity.

• Puget Sound Regional Council (PSRC), the regional metropolitan planning organization, and local plans call for High Capacity Transit (HCT) in the corridor consistent with VISION 2040 (PSRC, 2009) and Sound Transit's Regional Transit Long-Range Plan Update (Sound Transit, 2014).

• The region's citizens and communities, including transit dependent residents and low-income and minority population, need long-term regional mobility and multimodal connectivity as called for in the Washington State Growth Management Act.

• Regional and local plans call for increased residential and/or employment density at and around HCT stations, and increased options for multimodal access.

• Environmental and sustainability goals of the state and region, as established in Washington state law and embodied in PSRC's VISION 2040 and 2018 Regional Transportation Plan, include reducing greenhouse gas emissions by decreasing vehicle miles traveled.

Proposed Alternatives. Three light rail transit (LRT) build alternatives have been identified for the WSBLE project, as well as a no-build alternative, as required under NEPA, that serves as a baseline against which to assess the impacts of the proposed alternatives. The mode and corridor served for the proposed project were identified through the years-long planning process for the Sound Transit Regional Transit Long-Range Plan and ST3 Plan. The three LRT alternatives were developed through an alternatives development process which built off of the Regional Transit Long-Range Plan and ST3 planning work. The planning and alternatives development processes included technical analysis, public engagement, and input from affected local jurisdictions. Sound Transit developed an initial range of alternatives from agency and public input during the SEPA early scoping process (February 2 through March 5, 2018). The project Elected Leadership Group (ELG), a comprehensive group of elected officials that represent the service corridor, and the Stakeholder Advisory Group (SAG), an advisory group consisting of members of the community appointed by the ELG, then recommended how to narrow and refine these alternatives based on additional analysis and community, agency, and tribal input. Consistent with 23 CFR part 450.318, FTA is relying on the results of these local planning processes to inform the mode, corridor, and range of reasonable alternatives to be evaluated during the environmental process.

FTA and Sound Transit invite comments on these alternatives. The input received during the scoping period will help FTA and Sound Transit identify alternatives to evaluate in the Draft EIS. After scoping concludes, the Sound Transit Board is expected to consider the scoping comments received and then act on a motion addressing the purpose and need for the project, the scope of environmental review, and identifying the preferred alternative and other alternatives to be considered in the Draft EIS.

No Build Alternative. The No Build Alternative reflects the existing transportation system plus the transportation improvements included in PSRC's Transportation Improvement Program.

Light Rail Transit Alternatives. Each LRT alternative is approximately 11.8 miles and includes fourteen stations that serve the following areas: Alaska Junction, Avalon, Delridge, SODO, the sports stadiums, International District/Chinatown, Midtown, Westlake, Denny, South Lake Union, Seattle Center, Smith Cove, Interbay, and Ballard. FTA and Sound Transit may also examine several design options and potential minimal operable segments for the proposed alternatives. Information about the proposed project, the alternatives development process, scoping, and the EIS process will be available at the scoping meetings, at Sound Transit offices, on the project website: http://www.soundtransit.org/WSBLink, or by contacting the project line at (206) 903-7229. For purposes of the Notice, the proposed alternatives can be generally described as follows:

In West Seattle, the alternatives include several elevated and tunnel station options in the Alaska Junction area in the vicinity of SW Alaska Street on either 41st Avenue SW, 42nd Avenue SW, or 44th Avenue SW. From the Alaska Junction, the alternatives travel east in either an elevated or tunnel configuration with elevated or tunnel station options at Avalon, and continue in an elevated configuration along SW Genesee Street with an elevated station in Delridge along or west of Delridge Way SW. The alternatives then cross the Duwamish River on a high level fixed bridge parallel to the existing West Seattle Bridge on either the north or south side. The alternatives continue east in an elevated configuration before turning north following the alignment of the E3 Busway to a new elevated or at-grade SODO station and an at-grade Stadium station and connect to the existing downtown Seattle transit tunnel.

A new downtown tunnel would begin in the vicinity of the Stadium station, it would head north with alignments under 4th Avenue S or 5th Avenue S through the International District/Chinatown and then travel northwest along 5th Avenue or 6th Avenue through Midtown and Westlake. The alternatives would then continue in a tunnel configuration along Westlake Ave N to South Lake Union with a station near Denny Way before turning northwest with a station near Aurora Ave N between Harrison and Roy streets. The alternatives would continue in tunnel towards Seattle Center with a station on either Republican or Mercer streets. The alternatives then turn north and begin to transition to at-grade or elevated configurations to serve a Smith Cove station along Elliott Avenue W. From the Smith Cove station, the alternatives either continue in an elevated configuration along 15th Avenue W or transition to at-grade along the east side of the Burlington Northern Santa Fe (BNSF) railway tracks to a station in Interbay near W Dravus Street. From the Interbay station, one alternative would continue in an elevated alignment along 15th Avenue W and cross Salmon Bay with a movable bridge. The other alternatives transition to the east of 15th Avenue W and cross Salmon Bay with a high level fixed bridge or tunnel. Station options in Ballard include elevated and tunnel stations near NW Market Street on 15th Avenue NW or 14th Avenue NW.

The build alternatives could also include transit related roadway, bicycle, maritime, and pedestrian projects by Sound Transit or others. These improvements may be eligible for federal funding and could be part of the transit project or constructed together with it as part of a joint effort with agency partners, thereby meriting joint environmental analysis. This could include access improvements around station areas and over waterway crossings. Sound Transit would identify these improvements and could include them as it works with partner agencies.

Possible Adverse Effects. Consistent with NEPA, FTA and Sound Transit will evaluate, with input from the public, tribes, and agencies, the potential impacts of the alternatives on the natural, built, and social environments. Likely areas of investigation include, transportation (including navigable waterways), land use and consistency with applicable plans, land acquisition and displacements, socioeconomic impacts, park and recreation resources, historic and cultural resources, environmental justice, visual and aesthetic qualities, air quality, noise and vibration, energy use, safety and security, and ecosystems, including threatened and endangered species and marine mammals. The EIS will evaluate short-term construction impacts and long-term operational impacts. It will also consider indirect, secondary and cumulative impacts. The EIS will also propose measures to avoid, minimize, or mitigate significant adverse impacts.

In accordance with FTA policy and regulations, FTA and Sound Transit will comply with all Federal environmental laws, regulations, and executive orders applicable to the proposed project during the environmental review process.

Roles of Agencies and the Public. NEPA, and FTA's regulations for implementing NEPA, call for public involvement in the EIS process. FTA and Sound Transit therefore invite Federal and non-Federal agencies to participate in the NEPA process as “cooperating” or “participating” agencies. FTA will also initiate government-to-government consultation with Indian tribes and will invite them to participate in the process.

Any agency or tribe interested in the project that does not receive such an invitation should promptly notify the Sound Transit Corridor Environmental Manager identified above under ADDRESSES.

FTA and Sound Transit will prepare a draft Coordination Plan for agency involvement. Interested parties will be able to review the draft Coordination Plan on the project website. The draft Coordination Plan will identify the project's coordination approach and structure, will provide details on the major schedule milestones for agency and public involvement, and will include an initial list of interested agencies and organizations.

Combined FEIS and Record of Decision. Under 23 U.S.C. 139, FTA should combine the Final EIS and Record of Decision if it is practicable. The EIS will be a joint document under NEPA and SEPA; therefore, FTA and Sound Transit have determined that this is not practicable to combine the Final EIS and Record of Decision.

Paperwork Reduction. The Paperwork Reduction Act seeks, in part, to minimize the cost to the taxpayer of the creation, collection, maintenance, use, dissemination, and disposition of information. Consistent with this goal and with principles of economy and efficiency in government, FTA limits as much as possible the distribution of complete sets of printed environmental documents. Accordingly, unless a specific request for a complete printed set of environmental documents is received before the document is printed, FTA and Sound Transit will distribute only the executive summary of the environmental document that will include a compact disc of the complete environmental document and a link to the project website where it can be accessed online. A complete printed set of the environmental document will be available for review at the Sound Transit's offices and local libraries; an electronic copy of the complete environmental document will also be available on Sound Transit's project website.

Linda M. Gehrke,
Regional Administrator.

[FR Doc. 2019-01949 Filed 2-11-19; 8:45 am]

BILLING CODE P